DEPARTMENT OF THE INTERIOR

Fish and Wildlife Service

Information Collection To Be Sent to the Office of Management and Budget (OMB) for Approval Under the Paperwork Reduction Act; OMB Control Number 1018-0128; Marine Turtle Conservation Fund Grant Program

AGENCY: Fish and Wildlife Service, Interior.

ACTION: Notice; request for comments.

SUMMARY: We (Fish and Wildlife Service) will submit the collection of information described below to OMB for approval under the provisions of the Paperwork Reduction Act. We will use this information to determine which project proposals should be funded in accordance with the Marine Turtle Conservation Act (Pub. L. 108-266).

DATES: You must submit comments on or before October 17, 2005.

ADDRESSES: Send your comments and suggestions on specific requirements to the Information Collection Clearance Officer, Fish and Wildlife Service, MS 222-ARLSQ, 4401 N. Fairfax Drive, Arlington, VA 22203.

FOR FURTHER INFORMATION CONTACT: To request a copy of the information collection submission, explanatory information, and/or related forms, contact Hope Grey, Information Collection Clearance Officer, at 703-358-2482 or electronically at hope_grey@fws.gov.

SUPPLEMENTARY INFORMATION: OMB regulations at 5 CFR 1320, which implement provisions of the Paperwork Reduction Act of 1995 (44 U.S.C. 3501 et seq.), require that interested members of the public and affected agencies be given an opportunity to comment on information collection and recordkeeping activities (see 5 CFR 1320.8(d)). On July 29, 2005, OMB approved our emergency request for information collection associated with the Marine Turtle Conservation Fund Grant Program. The supporting statement for our emergency request is available online at http://www.fws.gov/pdm/0128SupCurrent.pdf. The OMB control number for this collection is 1018-0128, which expires on January 31, 2006. We plan to request that OMB approve this information collection for a 3-year term. Federal agencies may not conduct or sponsor and a person is not required to respond to a collection of information unless it displays a currently valid OMB control number.

Proposals submitted for funding under the Marine Turtle Conservation Act are subject to a panel review, comprised of in-house and select outside technical experts. The information collected under this program's Notice of Funding Availability includes: a project summary and narrative; letter of appropriate government endorsement; brief curricula vitae for key project personnel; and complete standard forms 424, 424a and 424b. Proposals from U.S. applicants also include a copy of the organization's Negotiated Indirect Cost Rate Agreement (NIRCA) (if applicable) and a complete DI-2010. The project summary and narrative is the basis for this information collection request for approval, and allows the review panel to assess how well the project addresses the priorities identified by the Act. As all of the projects under this Act will be conducted outside the United States, the letter of appropriate government endorsement ensures that the proposed activities will not meet with local resistance or work in opposition to locally identified priorities and needs. Brief curricula vitae for key project personnel allow the review panel to assess the qualifications of project staff to effectively carry out the project goals and objectives. Although the standard forms are only required for U.S. financial assistance applicants, we ask all applicants to submit these forms in order to allow for more uniformity across all proposals. As all Federal entities are required to honor the indirect cost rates an organization has negotiated with their cognizant agency, we require all organizations with a NICRA to submit the agreement paperwork with their proposals to verify how their rate is applied in their proposed budget. The DI-2010 is a required form for all U.S. financial assistance applicants.

The information requested in this collection, outside of the required standard forms, is considered the minimum information necessary to allow the review panel sufficient technical, financial, and administrative information to determine the merits of each proposal, and to select the best projects for funding.

Title: Marine Turtle Conservation Fund Grant Program.

OMB Control Number: 1018-0128.

Service Form Numbers: N/A.

Frequency of Collection: Annually.

Description of Respondents: Foreign governments; domestic and foreign nongovernmental organizations, and individuals.

Total Annual Responses: 55 responses.

Total Annual Burden Hours: 660 hours.

We invite comments concerning this collection on: (1) Whether or not the collection of information is necessary for the proper performance of the functions of the agency, including whether or not the information will have practical utility; (2) the accuracy of the agency's estimate of burden on the public; (3) ways to enhance the quality, utility and clarity of the information to be collected; and (4) ways to minimize the burden of the collection of information on those who are to respond.

Dated: August 3, 2005.
Hope Grey,
Information Collection Clearance Officer, Fish and Wildlife Service.

[FR Doc. 05-16148 Filed 8-15-05; 8:45 am]

BILLING CODE 4310-55-P